DEPARTMENT OF TRANSPORTATION

Federal Aviation Administration

14 CFR Part 39

[Docket No. FAA-2011-0939; Directorate Identifier 2010-SW-067-AD; Amendment 39 16798; AD 2011-18-16]

RIN 2120-AA64

Airworthiness Directives; Eurocopter France (Eurocopter) Model AS332C, AS332L, AS332L1, and AS332L2 Helicopters

AGENCY: Federal Aviation Administration, DOT.

ACTION: Final rule; request for comments.

SUMMARY: This amendment adopts a new airworthiness directive (AD) for the specified Eurocopter model helicopters. This action requires inspecting the upper end fitting ball joints of the main rotor servocontrols for lateral play, and depending on the findings either repetitively inspecting the ball joint or replacing the servocontrol. This amendment is prompted by reports of noncompliant swaging of the end fitting ball joints on main rotor servocontrols. Investigation has shown that the swaging load applied to the ball joints was 1.3 metric tons instead of the specified 13 metric tons. The actions specified in this AD are intended to prevent failure of the upper end fitting ball joints of the main rotor servocontrols, failure of the upper end fittings, and loss of control of the helicopter.

DATES: Effective November 14, 2011.

Comments for inclusion in the Rules Docket must be received on or before December 27, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647 5527) is located in Room W12-140 on the ground floor of the West Building at the street address stated in the ADDRESSES section. Comments will be available in the AD docket shortly after receipt.

FOR FURTHER INFORMATION CONTACT: Gary Roach, Aviation Safety Engineer, FAA, Rotorcraft Directorate, Regulations and Guidance Group, 2601 Meacham Blvd., Fort Worth, Texas 76137, telephone (817) 222-5130, fax (817) 222-5961.

SUPPLEMENTARY INFORMATION:

Discussion

The European Aviation Safety Agency (EASA), which is the Technical Agent for the Member States of the European Union, has issued EASA AD No. 2010-0117-E, dated June 16, 2010, to correct an unsafe condition for the specified Eurocopter model helicopters. EASA advises that the equipment manufacturer (Goodrich) has identified two servocontrol production batches as noncompliant with swaging of the end fitting ball joints on main rotor servocontrols. EASA states that investigations have revealed that the swaging load applied to the ball joints in these two batches was 1.3 metric tons, instead of the specified 13 metric tons, which could lead the ball joints to slip in service. The slipping of the ball joint of the servocontrol lower end fitting does not significantly affect the service life of the end fitting. However, the slipping of the ball joint of the servocontrol upper end fitting can lead to a significant reduction in the service life of the end fitting. This condition, if not corrected, could lead to failure of the upper end fitting ball joint of a main rotor servocontrol and result in loss of control of the helicopter.

Differences Between This AD and the EASA AD

We refer to flight hours as hours time-in-service (TIS).

Related Service Information

Eurocopter has issued an Emergency Alert Service Bulletin (EASB), dated June 15, 2010, with two numbers: No. 67.00.40 for FAA type-certificated Models AS332C, L, L1, and L2 and for Models AS332C1, B, B1, F1, M, and M1 that are not FAA type certificated, and No. 67.00.27 for Models AS532AC, AL, SC, UC, UE, UL, A2, and U2 that are not FAA type certificated. The EASB specifies checking and restoring conformity of the affected end fitting ball joints of the servocontrols. The EASB contains Appendix 1 and 2, Goodrich Service Bulletins No. SC7203-67-31-02 and No. SC7221-67-39-02, both dated May 11, 2010, which specify the process for comforming each affected servocontrol. EASA classified this EASB as mandatory and issued Emergency AD No. 2010-0117-E, dated June 16, 2010, to ensure the continued airworthiness of these helicopters.

FAA's Evaluation and Unsafe Condition Determination

These helicopters have been approved by the aviation authority of France and are approved for operation in the United States. Pursuant to our bilateral agreement with France, EASA, their technical representative, has notified us of the unsafe condition described in the EASA AD. We are issuing this AD because we evaluated all information provided by EASA and determined the unsafe condition exists and is likely to exist or develop on other helicopters of these same type designs.

Eurocopter states that there are currently no helicopters with the affected part installed in the United States. However, this rule is necessary to ensure that the described unsafe condition is addressed in the event this part is installed on any helicopter in the future.

Costs of Compliance

There are no costs of compliance assuming that there are no helicopters on the U.S. Registry with the affected part installed as represented by the manufacturer.

FAA's Determination of the Effective Date

This unsafe condition is likely to exist or develop on other helicopters of these same type designs. Therefore, this AD is being issued to prevent failure of the upper end fitting ball joints of the main rotor servocontrols, failure of the upper end fittings, and loss of control of the helicopter. Since there are currently no U.S. registered helicopters with the affected part installed, we have determined that notice and opportunity for prior public comment before issuing this AD are unnecessary and that good cause exists for making this amendment effective in less than 30 days.

Requirements of This AD

This AD requires:

• Within 15 hours TIS, unless accomplished previously, using a feeler gage, measuring the lateral play between the outer ring of the ball joint and each of the two faces of the upper end fitting.

• If the lateral play is greater than or equal to 1 millimeter (MM) (0.04 inch) and the servocontrol has accumulated 825 or more hours TIS, replacing it with an airworthy servocontrol before further flight.

• If the lateral play is greater than or equal to 1 mm (0.04 inch) and the servocontrol has accumulated less than 825 hours TIS, on or before the servocontrol accumulates 825 hours TIS, replacing it with an airworthy servocontrol.

• If the lateral play is less than 1 mm (0.04 inch), thereafter, at intervals not to exceed 300 hours TIS, repeating the inspection. At each 300-hour TIS inspection, if the lateral play is greater than or equal to 1 mm (0.04 inch), within 525 hours TIS, replacing the servocontrol with an airworthy servocontrol.

• Replacing the servocontrol with an airworthy servocontrol that is not included in the AD applicability or that is modified with a letter “R” after the S/N constitutes terminating action for the requirements of this AD.

Because these affected parts have an unlimited operational fatigue life with no previous fatigue inspections required, the replacement criteria of this AD assumes that the affected servocontrols found to have greater than or equal to 1 MM of lateral play have already been operated for at least 825 hours TIS with this fatigue damage and must be replaced at 825 hours TIS or if they have already accumulated 825 or more hours TIS, within 15 hours TIS of the effective date of this AD. However, if a subsequent 300-hour TIS repetitive inspection required by this AD reveals lateral play of 1 MM or greater, those affected servocontrols may be operated an additional 525 hours TIS because the previous 300-hours TIS inspection established the new baseline for the 825 hours TIS thereby allowing an additional 525 hours TIS before replacement.

Comments Invited

This AD is a final rule that involves requirements that affect flight safety and was not preceded by notice and an opportunity for public comment; however, we invite you to submit any written data, views, or arguments regarding this AD. Send your comments to an address listed under ADDRESSES. Include FAA Docket No. “FAA-2011-0939; Directorate Identifier 2010-SW-067-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket Web site, you can find and read the comments to any of our dockets, including the name of the individual who sent the comment. You may review the DOT's complete Privacy Act Statement in the Federal Register published on April 11, 2000 (65 FR 19477 78).

Regulatory Findings

We have determined that notice and prior public comment are unnecessary in promulgating this regulation; therefore, it can be issued immediately to correct an unsafe condition in aircraft because none of the model helicopters that are registered in the United States have the affected part installed. We have also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the AD docket.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2011-18-16 Eurocopter France: Amendment 39-16798; Docket No. FAA 2011-0939; Directorate Identifier 2010-SW-067-AD.

Applicability: Models AS332C, L, L1, and L2 helicopters, with main rotor servocontrols, part number (P/N) SC7203-1 with serial number (S/N) 633 through 643, 645 through 659, 664 or 665, or P/N SC7221-1 with S/N 1693 through 1723 and 1726 or 1727, which are not marked with a letter “R” after the S/N, certificated in any category.

Compliance: Required as indicated.

To prevent failure of the upper end fitting ball joints of the main rotor servocontrols, failure of the upper end fittings, and loss of control of the helicopter, do the following:

(a) Within 15 hours time-in-service (TIS), unless accomplished previously, using a feeler gage, measure the lateral play between the outer ring of the ball joint and each of the two faces of the upper end fitting as depicted in Figure 1 of this AD.

(b) If the lateral play is greater than or equal to 1 millimeter (MM) (0.04 inch) and the servocontrol has accumulated 825 or more hours TIS, before further flight, replace it with an airworthy servocontrol.

(c) If the lateral play is greater than or equal to 1 mm (0.04 inch) and the servocontrol has accumulated less than 825 hours TIS, on or before the servocontrol accumulates 825 hours TIS, replace it with an airworthy servocontrol.

(d) If the lateral play is less than 1 mm (0.04 inch), at intervals not to exceed 300 hours TIS, repeat the inspection required by paragraph (a) of this AD. At each 300 hour TIS interval inspection, if the lateral play is greater than or equal to 1 mm (0.04 inch), within 525 hours TIS, replace the servocontrol with an airworthy servocontrol.

Note 1: An acceptable method of returning the servocontrol to an airworthy condition for the purposes of this AD is by modifying the servocontrol and marking an “R” after the S/N by following Goodrich Service Bulletin (SB) No. SC7203-67-31-02, dated May 11, 2010, for servocontrol, P/N SC7203-1, or Goodrich SB No. SC72216739-02, dated May 11, 2010, for servocontrol, P/N SC7221 1. The Goodrich SBs are attached to Eurocopter Emergency Alert SB containing two numbers (67.00.40 and 67-00.27), dated June 15, 2010 as Appendix 1 and Appendix 2, respectively. None of these three SBs is incorporated by reference in this AD.

(e) Replacing a servocontrol with an airworthy servocontrol that is marked with a letter “R” by the manufacturer after the S/N constitutes terminating action for the requirements of this AD.

(f) To request a different method of compliance or a different compliance time for this AD, follow the procedures in 14 CFR 39.19. Contact the Manager, Safety Management Group, Rotorcraft Directorate, FAA, ATTN: Gary Roach, Aviation Safety Engineer, FAA, Regulations and Guidance Group, 2601 Meacham Blvd, Fort Worth, Texas 76137, telephone (817) 222-5130, fax (817) 222 5961, for information about previously approved alternative methods of compliance.

(g) The Joint Aircraft System/Component (JASC) Code is 6730: Rotorcraft Servo System.

(h) This amendment becomes effective on November 14, 2011.

Note 2: The subject of this AD is addressed in European Aviation Safety Agency Emergency AD No. 2010-0117-E, dated June 16, 2010.

Issued in Fort Worth, Texas, on August 23, 2011.
Kim Smith,
Manager, Rotorcraft Directorate, Aircraft Certification Service.

[FR Doc. 2011-27673 Filed 10-26-11; 8:45 am]

BILLING CODE 4910-13-P